DEPARTMENT OF HOMELAND SECURITY

Coast Guard

33 CFR Part 117

[Docket No. USCG-2010-0035]

Drawbridge Operation Regulations; Chelsea River, Chelsea and East Boston, MA, Event—Road Race

AGENCY: Coast Guard, DHS.

ACTION: Notice of temporary deviation from regulations.

SUMMARY: The Commander, First Coast Guard District, has issued a temporary deviation from the regulation governing the operation of the P.J. McArdle Bridge across the Chelsea River, mile 0.3, between Chelsea and East Boston, Massachusetts. This deviation allows the bridge to remain in the closed position from 8 a.m. to 5 p.m. on July 24, 2010. This deviation is necessary to facilitate a public event, the Chelsea River Revel 5K Road Race.

DATES: This deviation is effective from 8 a.m. through 5 p.m. on July 24, 2010.

ADDRESSES: Documents mentioned in this preamble as being available in the docket are part of docket USCG-2010-0035 and are available online at http://www.regulations.gov, inserting USCG-2010-0035 in the “Keyword” and then clicking “Search”. They are also available for inspection or copying at the Docket Management Facility (M-30), U.S. Department of Transportation, West Building Ground Floor, Room W12-140, 1200 New Jersey Avenue SE., Washington, DC, 20590, between 9 a.m. and 5 p.m., Monday through Friday, except Federal holidays.

FOR FURTHER INFORMATION CONTACT: If you have questions on this rule, call or e-mail Mr. John McDonald, Project Officer, First Coast Guard District, telephone (617) 223-8364, john.w.mcdonald@uscg.mil. If you have questions on viewing the docket, call Renee V. Wright, Program Manager, Docket Operations, telephone 202-366-9826.

SUPPLEMENTARY INFORMATION: The P.J. McArdle Bridge, across the Chelsea River at mile 0.3, between Chelsea and East Boston, Massachusetts, has a vertical clearance in the closed position of 21 feet at mean high water and 30 feet at mean low water. The bridge opens on signal at all times as required by 33 CFR 117.593.

The owner of the bridge, the City of Boston, requested a temporary deviation to facilitate a public event, the Chelsea River Revel 5K Road Race.

This deviation allows the bridge to remain closed from 8 a.m. to 5 p.m. on July 24, 2010. Vessels able to pass under the closed draw may do so at any time.

The commercial waterway users that transit the Chelsea River were advised of the requested bridge closure period and offered no objection.

In accordance with 33 CFR 117.35(e), the bridge must return to its regular operating schedule immediately at the end of the designated time period. This deviation from the operating regulations is authorized under 33 CFR 117.35.

Dated: June 22, 2010.
Gary Kassof,
Bridge Program Manager, First Coast Guard District.

[FR Doc. 2010-16113 Filed 7-1-10; 8:45 am]

BILLING CODE 9110-04-P